FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—08/29/2005
20051403 | Newell Rubbermaid, Inc | Esselte Group Holdings AB | Esselte BVBA, Esselte Holdings Inc., Goldcup D 892 AB
20051444 | Grupo Ferrovial, S.A | Wayne W. Webber | Southern Crushed Concrete, Inc., Webber Management Group, Inc.
20051449 | School Specialty, Inc | Wicks Communications & Media Partners, L.P | Delta Education, LLC
20051451 | Credit Suisse Group | The PMI Group, Inc | SPS Holding Corp.
20051457 | PBI Media Holdings LLC | PRIMEDIA Inc | PRIMEDIA Business Magazine and Media Inc.
20051459 | MetroCast Cablevision of New Hampshire, LLC | Paul F. Harron, Jr | Gans Communications, L.P.
20051460 | Waste Connections, Inc | Mr. Gregory L. Gibson | Mountain Jack Environmental Services, Inc.
20051466 | Starwood Capital Hospitality Fund 1-2, L.P | Groupe Taittinger SA | Groupe Taittinger SA
20051467 | The Veritas Capital Fund II, L.P | Mitchell J. Wade | MZM, Inc.
20051468 | Alan B. Miller | KEYS Group Holdings LLC | KEYS Group Holdings LLC
20051471 | First Reserve Fund X, L.P | Chart Industries, Inc | Chart Industries, Inc.
20051477 | GGC Investment Fund II, L.P | CCG Investments BVI, L.P | Concerto Software, Inc.
20051478 | GGC Investment Fund II-A, L.P | CCG Investments BVI, L.P | Concerto Software, Inc.
20051480 | First Data Corporation | Citigroup Inc | New Payment Services, Inc.
20051485 | SSA Global Technologies, Inc | E.piphany, Inc | E.piphany, Inc.
20051486 | New York State Catholic Health Plan, Inc | Rayan Community Health Network, Inc | CenterCare, Inc.
20051490 | ShoreView Capital Partners, L.P | Protective Industries, LLC | Caplugs, LLC, Niagara Plastics, LLC, Protective Industries, LLC
Transactions Granted Early Termination—08/31/2005
20051394 | Dover Corporation | Michael Inglis | Harbor Electronics, Inc.
20051406 | Invitrogen Corporation | BioSource International, Inc | BioSource International, Inc.
20051407 | Oracle Corporation | i-flex Solutions Limited | i-flex Solutions Limited
20051440 | Beacon Roofing Supply, Inc | Brazos Equity Fund, L.P | SDI Holding, Inc.
Transactions Granted Early Termination—09/01/2005
20051484 | ValueClick, Inc | Fastclick, Inc | Fastclick, Inc.
Transactions Granted Early Termination—09/02/2005
20051476 | Grupo Ferrovial, S.A | The Wayne and Joan Webber Foundation | W.W. Webber, Inc.
20051489 | E*TRADE Financial Corporation | Bank of Montreal | Harrisdirect LLC
20051494 | PAR Investment Partners, L.P | US Airways Group, Inc | US Airways Group, Inc.
20051497 | LS Power Equity Partners, L.P | Calpine Corporation | Calpine Construction Finance Company, L.P., Calpine Leasing, Inc., Calpine Philadelphia, Inc., Ontelaunee Power Operating Company, Inc., Philadelphia Biogas Supply, Inc.
20051499 | QBE Insurance Group Limited | White Mountains Insurance Group, Ltd | National Farmers Union Property and Casualty Company
20051501 | Spectrum Equity Investors IV, L.P | Mortgagebot LLC | Mortgagebot LLC
20051502 | TUI AG | CP Ships Limited | CP Ships Limited
20051509 | Sybase, Inc | Extended Systems Incorporated | Extended Systems Incorporated
20051515 | Sentry Insurance, a Mutual Company | Royal & SunAlliance Insurance Group plc | Viking Insurance Company of Wisconsin
Transactions Granted Early Termination—09/06/2005
20051282 | Walters Industries, Inc | DLJ Merchant Banking Partners II, L.P | Mueller Water Products, Inc.
20051422 | Citigroup, Inc | Receivable Management Services Holding Corp | Receivable Management Services Holding Corp.
20051505 | The Goldman Sachs Group, Inc | Allmerica Financial Corporation | Allmerica Financial Investment Management Services, Inc., Allmerica Financial Life Insurance & Annuity Co.
20051507 | Paul G. Allen, c/o Vulcan Ventures Incorporated | Sempra Energy | Energy Center Investments
20051508 | Plains All American Pipeline, L.P | Sempra Energy | Energy Center Investments Corp.
Transactions Granted Early Termination—09/07/2005
20051510 | Permira Europe III L.P. 2 | Hirschmann Industrial Holdings Ltd | Hirschmann Industrial Holdings Ltd.
Transactions Granted Early Termination—09/08/2005
20051020 | ScanSoft, Inc | Nuance Communications, Inc | Nuance Communications, Inc.
20051435 | News Corporation | Scout Media, Inc | Scout Media, Inc.
20051487 | American Securities Partners III, L.P | Weasler Holdings LLC | Weasler Engineering, Inc.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. 05-19317 Filed 9-27-05; 8:45 am]

BILLING CODE 6750-01-M